DEPARTMENT OF AGRICULTURE

Animal and Plant Health Inspection Service

[Docket No. APHIS-2008-0041]

General Conference Committee of the National Poultry Improvement Plan; Solicitation for Membership

AGENCY: Animal and Plant Health Inspection Service, USDA.

ACTION: Notice of solicitation for membership.

SUMMARY: We are giving notice that the Secretary of Agriculture is soliciting nominations for the election of regional membership for the General Conference Committee of the National Poultry Improvement Plan.

DATES: Consideration will be given to nominations received on or before June 2, 2008.

ADDRESSES: Nominations should be addressed to Mr. Andrew R. Rhorer, Senior Coordinator, National Poultry Improvement Plan, VS, APHIS, 1498 Klondike Road, Suite 101, Conyers, GA 30094-5104.

FOR FURTHER INFORMATION CONTACT: Mr. Andrew R. Rhorer at the above address or by telephone at (770) 922-3496.

SUPPLEMENTARY INFORMATION: The General Conference Committee (the Committee) of the National Poultry Improvement Plan (NPIP) is the Secretary's Advisory Committee on poultry health. The Committee serves as a forum for the study of problems relating to poultry health and, as necessary, makes specific recommendations to the Secretary concerning ways the U.S. Department of Agriculture may assist the industry in addressing these problems. The Committee assists the Department in planning, organizing, and conducting the Biennial Conference of the NPIP. The Committee recommends whether new proposals should be considered by the delegates to the Biennial Conference and serves as a direct liaison between the NPIP and the United States Animal Health Association.

Terms will expire for current regional members of the Committee in June 2008. We are soliciting nominations from interested organizations and individuals to replace members on the Committee for the South Atlantic Region (Delaware, Florida, Georgia, Maryland, North Carolina, South Carolina, Virginia, West Virginia, the District of Columbia, and Puerto Rico), the South Central Region (Alabama, Arkansas, Kentucky, Louisiana, Mississippi, Oklahoma, Tennessee, and Texas), and the West North Central Region (Iowa, Kansas, Minnesota, Missouri, Nebraska, North Dakota, and South Dakota). There must be at least two nominees for each position. To ensure the recommendations of the Committee have taken into account the needs of the diverse groups served by the Department, membership should include, to the extent practicable, individuals with demonstrated ability to represent underrepresented groups (minorities, women, and persons with disabilities). At least one nominee from each of the three regions must have a demonstrated ability to represent an underrepresented group. The voting will be by secret ballot of official delegates from the respective region, and the results will be recorded.

Done in Washington, DC, this 10th day of April 2008.
Kevin Shea,
Acting Administrator, Animal and Plant Health Inspection Service.

[FR Doc. E8-8093 Filed 4-15-08; 8:45 am]

BILLING CODE 3410-34-P